DEPARTMENT OF THE INTERIOR

National Park Service

Notice of Intent to Repatriate Cultural Items: High Desert Museum, Bend, OR

AGENCY: National Park Service, Interior.

ACTION: Notice.

Notice is here given in accordance with the Native American Graves Protection and Repatriation Act (NAGPRA), 25 U.S.C. 3005, of the intent to repatriate cultural items in the possession of the High Desert Museum, Bend, OR, that meet the definition of “unassociated funerary objects” or “sacred objects” under 25 U.S.C. 3001.

This notice is published as part of the National Park Service's administrative responsibilities under NAGPRA, 25 U.S.C. 3003(d)(3). The determinations in this notice are the sole responsibility of the museum, institution, or Federal agency that has control of the cultural items. The National Park Service is not responsible for the determinations in this notice.

In 1990, Native American cultural items were donated to the High Desert Museum by the Roger J. Bounds Foundation, in the form of the Doris Swayze Bounds Collection. Between the 1950s and 1970s, Doris Bounds collected the majority of the items through purchases and gifts. There are seven objects that meet the definition of “unassociated funerary objects” or “sacred objects.” The three unassociated funerary objects are one pair of moccasins, one single moccasin, and one beaded necklace. The four sacred objects are one beaded fetish lizard-shaped object, one whistle with feathered adornment, one headdress, and one scalp lock.

Upon the initial accession of the objects into the High Desert Museum's collection in 1990, a number of scholars and Native American representatives from Columbia Plateau, Great Basin, and Plains tribes, identified the seven objects as being culturally sensitive or specific grave items of the Sioux or Assiniboine. Since 2004, the High Desert Museum has consulted with the Assiniboine and Sioux Tribes of the Fort Peck Indian Reservation, Montana. During consultation, the NAGPRA representative of the Assiniboine and Sioux Tribes of the Fort Peck Indian Reservation, Montana, identified the objects as being either funerary or sacred objects, and culturally affiliated to the tribe. The High Desert Museum's collection records confirm that the objects are from the Poplar, MT, region and culturally affiliated specifically to the Assiniboine and Sioux Tribes of the Fort Peck Indian Reservation, Montana.

Officials of the High Desert Museum have determined that, pursuant to 25 U.S.C. 3001(3)(B), the three cultural items described above (unassociated funerary objects) are reasonably believed to have been placed with or near individual human remains at the time of death or later as part of the death rite or ceremony and are believed, by a preponderance of the evidence, to have been removed from a specific burial site of a Native American individual. Officials of the High Desert Museum also have determined that, pursuant to 25 U.S.C. 3001(3)(C), the four cultural items described above (sacred objects) are specific ceremonial objects needed by traditional Native American religious leaders for the practice of traditional Native American religions by their present-day adherents. Lastly, officials of the High Desert Museum have determined that, pursuant to 25 U.S.C. 3001(2), there is a relationship of shared group identity that can be reasonably traced between the unassociated funerary objects and sacred objects and the Assiniboine and Sioux Tribes of the Fort Peck Indian Reservation, Montana.

Representatives of any other Indian tribe that believes itself to be culturally affiliated with the unassociated funerary objects and/or sacred objects should contact Tracy Johnson, Curator of Collections and Exhibits, High Desert Museum, 59800 South Highway 97, Bend, OR 97702, telephone (541) 382-4754, before August 19, 2010. Repatriation of the unassociated funerary objects and sacred objects to the Assiniboine and Sioux Tribes of the Fort Peck Indian Reservation, Montana, may proceed after that date if no additional claimants come forward.

The High Desert Museum is responsible for notifying the Assiniboine and Sioux Tribes of the Fort Peck Indian Reservation, Montana, that this notice has been published.

Dated: July 9, 2010.
Sherry Hutt,
Manager, National NAGPRA Program.

[FR Doc. 2010-17478 Filed 7-19-10; 8:45 am]

BILLING CODE 4312-50-S